ENVIRONMENTAL PROTECTION AGENCY

40 CFR Part 721

[EPA-HQ-OPPT-2010-1075; FRL-9335-4]

RIN 2070-AB27

Proposed Significant New Use Rules on Certain Chemical Substances; Extension of Comment Period

AGENCY: Environmental Protection Agency (EPA).

ACTION: Proposed rule; extension of comment period.

SUMMARY: EPA issued a proposed rule in the Federal Register of December 28, 2011, concerning proposed significant new use rules (SNURs) under section 5(a)(2) of the Toxic Substances Control Act (TSCA) for the chemical substances rutile, tin zinc, calcium-doped (CAS No. 389623-01-2) and rutile, tin zinc, sodium-doped (CAS No. 389623-07-8) which were the subject of premanufacture notices (PMNs P-06-36 and P-06-37) and TSCA section 5(e) consent orders issued by EPA. In order to address public comments, EPA is extending the comment period. This document extends the comment period for 30 days, from January 27, 2012 to February 26, 2012.

DATES: Comments, identified by docket identification (ID) number EPA-HQ-OPPT-2010-1075, must be received on or before February 26, 2012.

ADDRESSES: Follow the detailed instructions as provided under ADDRESSES in the Federal Register document of December 28, 2011.

FOR FURTHER INFORMATION CONTACT: For technical information contact: Kenneth Moss, Chemical Control Division (7405M), Office of Pollution Prevention and Toxics, Environmental Protection Agency, 1200 Pennsylvania Ave. NW., Washington, DC 20460-0001; telephone number: (202) 564-9232; email address: moss.kenneth@epa.gov.

For general information contact: The TSCA-Hotline, ABVI-Goodwill, 422 South Clinton Ave., Rochester, NY 14620; telephone number: (202) 554-1404; email address: TSCA-Hotline@epa.gov.

SUPPLEMENTARY INFORMATION: This document extends the public comment period established in the Federal Register of December 28, 2011 (76 FR 81441) (FRL-9329-4). In that document, EPA proposed SNURs under section 5(a)(2) of TSCA for the chemical substances rutile, tin zinc, calcium-doped (CAS No. 389623-01-2) and rutile, tin zinc, sodium-doped (CAS No. 389623-07-8) which were the subject of premanufacture notices (PMNs P-06-36 and P-06-37) and TSCA section 5(e) consent orders issued by EPA. EPA received a comment in response to the proposed SNURs noting that additional information detailing the Agency's evaluation and determination under TSCA sections 5(e)(1)(A)(i) and 5(e)(1)(A)(ii)(I) for the chemical substances was added to the docket. The commenter requests that additional time be allotted to allow review of this information. EPA is hereby extending the comment period, which was set to end on January 27, 2012, to February 26, 2012 to allow for any public comments in response to the additional information.

To submit comments, or access the docket, please follow the detailed instructions as provided under ADDRESSES in the December 28, 2011 Federal Register document. If you have questions, consult the technical person listed under FOR FURTHER INFORMATION CONTACT.

List of Subjects in 40 CFR Part 721

Environmental protection, Chemicals, Hazardous substances, Reporting and recordkeeping requirements.

Dated: January 18, 2012.
Maria J. Doa,
Director, Chemical Control Division, Office of Pollution Prevention and Toxics.

[FR Doc. 2012-1520 Filed 1-24-12; 8:45 a.m.]

BILLING CODE 6560-50-P